DEPARTMENT OF THE INTERIOR

Bureau of Land Management

[OR-015-1220-AA; GP-2-0056]

Notice of Temporary Motor Vehicle Restriction on Public Lands; Lake County, OR

AGENCY: Bureau of Land Management, Lakeview District, Lakeview Resource Area, Oregon, Interior.

ACTION: A temporary restriction to motorized vehicle use on public lands administered by the Bureau of Land Management (BLM), Lakeview District, Lakeview Resource Area, Oregon.

SUMMARY: The BLM is temporarily restricting some uses of motorized vehicles on approximately 2,500 acres of public lands in Lake County. Vehicles will be required to stay on existing roads and trails in the Juniper Mountain area. No cross-country vehicle use will be allowed. This restriction will enable vegetation to recover on an area burned in a wildfire during July of 2001.

DATES: This restriction will take effect on the published date of this notice. The restriction will continue until the Lakeview Resource Management Plan (RMP) is completed (currently scheduled for late 2002), which will specify the long-term vehicle management for the area.

FOR FURTHER INFORMATION CONTACT: Trish Lindaman, BLM, Lakeview Resource Area, 1301 South G Street, Lakeview, OR 97630; telephone (541) 947-6136.

Discussion of the Rules

The public lands affected by this restriction are all lands administered by the BLM west of BLM Roads 6185-2 and 7155, in Sections 18, 19, 20, 29, 30, 31, and 32 of Township 30 South, Range 24 East; and Sections 13 and 24 of Township 30 South, Range 25 East, Willamette Meridian, Oregon. This area is known as Juniper Mountain. The affected lands are those which burned in a wildfire in July of 2001, and which are also within the proposed Juniper Mountain Area of Critical Environmental Concern (ACEC). The Emergency Stabilization and Rehabilitation Plan and EA (OR-010-2001-07) outlined actions to restore vegetation and stabilize portions of the burned area, which included seeding, fencing, and restricting vehicles within the area. Restricting vehicles to existing roads and trails will help in the revegetation of the area and prevent soil erosion while the area is recovering from the effects of the fire. Vehicle restriction signs will be posted along the main access roads to this area. Maps of the vehicle use limitation area and information on the rehabilitation plans may be obtained from the Lakeview District office. Notice of the EA, FONSI, and DR for the rehabilitation plan was publicized in October of 2001. Due to the immediate resource protection concerns and requirements, there will not be a comment period for this emergency vehicle use restriction.

Prohibited Act

Under 43 CFR 8364.1, the Bureau of Land Management will enforce the following rule within the Juniper Mountain restriction area:

i. Motorized vehicles are not allowed off of existing roads and trails.

Exemptions

Persons who are exempt from these rules include any Federal, State, or local officer or employee in the scope of their duties, members of any organized rescue or fire-fighting force in performance of an official duty, and any person authorized in writing by the Bureau of Land Management.

Penalties

The authority for this closure is found under section 303(a) of the Federal Land Policy and Management Act of 1976 (43 U.S.C. 1733(a)) and 43 CFR 8360.0-7. Any person who violates this closure and restriction order may be tried before a United States Magistrate and fined no more than $1,000 or imprisoned for no more than 12 months, or both. Such violations may also be subject to the enhanced fines provided for by 18 U.S.C. 3571.

Dated: February 22, 2002.
Scott R. Florence,
Field Manager, Lakeview Resource Area.

[FR Doc. 02-8879 Filed 4-11-02; 8:45 am]

BILLING CODE 4310-33-P